DEPARTMENT OF EDUCATION

National Assessment Governing Board; Proposed Information Collection

AGENCY: National Assessment Governing Board.

ACTION: Notice and request for comments.

SUMMARY: The National Assessment Governing Board, as part of its continuing effort to reduce paperwork and respondent burden, invites the general public and other Federal agencies to take this opportunity to comment on proposed and/or continuing information collections, as required by the Paperwork Reduction Act of 1995, Public Law 104-13 (44 U.S.C. 3506(c)(2)(A)). Currently, the Governing Board is soliciting comments concerning a survey of higher education institutions it is conducting in connection with designing the National Assessment of Educational Progress (NAEP) to report on the preparedness of 12th grade students for placement into entry-level college-credit coursework.

DATES: Written comments should be received on or before February 17, 2008 to be assured of consideration.

ADDRESSES: Direct all written comments to Ray Fields, National Assessment Governing Board, Suite 825, 800 North Capitol Street, NW., Washington, DC 20002.

FOR FURTHER INFORMATION CONTACT: Requests for additional information or copies of the draft survey should be directed to Ray Fields through the Internet at Ray.Fields@ed.gov, at the National Assessment Governing Board, Suite 825, 800 North Capitol Street, NW., Washington, DC, 20002, or at 202-357-0395.

SUPPLEMENTARY INFORMATION: Title: Survey of Placement Tests and Cut-Scores in Higher Education Institutions.

Abstract: The congressionally authorized National Assessment of Educational Progress (NAEP) reports to the public on the achievement of students at grades 4, 8, and 12 in core subjects. The National Assessment Governing Board oversees and sets policy for NAEP. NAEP and the Governing Board are authorized under the National Assessment of Educational Progress Authorization Act (Pub. L. 107-279).

Among the Board's responsibilities is “to improve the form, content, use, and reporting of [NAEP results].” Toward this end, the Governing Board plans to enable NAEP at the 12th grade to report on the academic preparedness of 12th grade students in reading and mathematics for entry level college credit coursework.

The Governing Board has planned a program of research studies to support the validity of statements about 12th grade student preparedness that would be made in NAEP reports, beginning with the 2009 assessments in 12th grade reading and mathematics. Among the studies planned is a survey of 2-year and 4-year institutions of higher education about the tests and test scores used to place students into entry level college credit coursework leading to a degree and into non-credit remedial or developmental programs in reading and/or mathematics. The data resulting from this survey will be used to help develop valid statements that can be made about the preparedness of 12th grade students in NAEP reports.

Current Actions: There are no current actions.

Type of Review: New Information Collection.

Affected Public: Institutions of Higher Education.

Estimated Number of Respondents: 3,700.

Estimated Time per Respondent: 25 minutes.

Estimated Total Annual Burden Hours: 1,542 hours, one time only.

The following paragraph applies to all of the collections of information covered by this notice:

An agency may not conduct or sponsor, and a person is not required to respond to, a collection of information unless the collection of information displays a valid OMB control number. There is no requirement for recordkeeping. Information provided by respondents will be kept confidential; there will be no reporting of results by individual institution.

Request for Comments: Comments submitted in response to this notice will be summarized and/or included in the request for OMB approval. All comments will become a matter of public record. Comments are invited on:

(a) Whether the collection of information is necessary for the proper performance of the functions of the agency, including whether the information shall have practical utility;

(b) The accuracy of the agency's estimate of the burden of the collection of information;

(c) Ways to enhance the quality, utility, and clarity of the information to be collected;

(d) Ways to minimize the burden of the collection of information on respondents, including through the use of automated collection techniques or other forms of information technology;

(e) Estimates of capital or start-up costs and costs of operation, maintenance, and purchase of services to provide information;

(f) Issues to consider in defining the terms “remedial” and/or “developmental” as they apply to preparatory or non-credit coursework in reading and mathematics at any institution providing postsecondary coursework;

(g) Issues to consider in defining the term postsecondary “entry-level, credit-bearing coursework leading to a degree”;

(h) Methods for identifying exemplar programs, i.e., occupations that do not require an Associate's or higher degree, but do require training beyond high school and the remedial/developmental as well as entry-level courses in those programs; and

(i) The names of, or methods for identifying, the most common entry-level programs at two-year colleges, four-year colleges/universities, and vocational/technical and occupational colleges.

Dated: December 11, 2008.
Ray Fields,
Authorized Agency Paperwork Contact, National Assessment Governing Board.

[FR Doc. E8-29699 Filed 12-15-08; 8:45 am]

BILLING CODE 4000-01-P